DEPARTMENT OF DEFENSE

GENERAL SERVICES ADMINISTRATION

NATIONAL AERONAUTICS AND SPACE ADMINISTRATION

48 CFR Chapter 1

[Docket No. FAR-2019-0001, Sequence No. 7]

Federal Acquisition Regulation; Federal Acquisition Circular 2020-02; Small Entity Compliance Guide

AGENCY: Department of Defense (DoD), General Services Administration (GSA), and National Aeronautics and Space Administration (NASA).

ACTION: Small Entity Compliance Guide.

SUMMARY: This document is issued under the joint authority of DOD, GSA, and NASA. This Small Entity Compliance Guide has been prepared in accordance with section 212 of the Small Business Regulatory Enforcement Fairness Act of 1996. It consists of a summary of the rule appearing in Federal Acquisition Circular (FAC) 2020-02, which amends the Federal Acquisition Regulation (FAR). An asterisk (*) next to a rule indicates that a regulatory flexibility analysis has been prepared. Interested parties may obtain further information regarding this rule by referring to FAC 2020-02, which precedes this document. These documents are also available via the internet at http://www.regulations.gov.

DATES: November 22, 2019.

FOR FURTHER INFORMATION CONTACT: Ms. Marilyn E. Chambers, Procurement Analyst, at 202-285-7380 or marilyn.chambers@gsa.gov for clarification of content. For information pertaining to status or publication schedules, contact the Regulatory Secretariat Division at 202-501-4755. Please cite FAC 2020-02, FAR Case 2013-002.

Rule Listed in FAC 2020-02
Subject | FAR Case | Analyst
* Reporting of Noncomforming Items to the Government-Industry Data Exchange Program | 2013-002 | Chambers.

SUPPLEMENTARY INFORMATION: A summary for the FAR rule follows. For the actual revisions and/or amendments made by this FAR case, refer to the specific subject set forth in the document following this item summary. FAC 2020-02 amends the FAR as follows:

Reporting of Nonconforming Items to the Government-Industry Data Exchange Program (FAR Case 2013-002)

This final rule amends the FAR to require contractors and subcontractors to report to the Government-Industry Data Exchange Program (GIDEP) certain counterfeit or suspect counterfeit parts and certain major or critical nonconformances. This change implements sections 818(c)(4) and (c)(5) of the National Defense Authorization Act for Fiscal Year 2012, which require DoD contractors and subcontractors to report counterfeit or suspect counterfeit electronic parts purchased by or for DoD to GIDEP. In addition, the FAR Council extended coverage of the proposed rule by policy to cover other Government agencies, other types of parts, and other types of nonconformance. In response to public comments, this final rule has more limited scope than the proposed rule, exempting contracts and subcontracts for commercial items and limiting the clause application to acquisitions of items that require higher level quality standards, critical items, or electronic parts by or for DoD.

William F. Clark,
Director, Office of Government-wide Acquisition Policy, Office of Acquisition Policy, Office of Government-wide Policy.

[FR Doc. 2019-24961 Filed 11-21-19; 8:45 am]

BILLING CODE 6820-EP-P